DEPARTMENT OF HEALTH AND HUMAN SERVICES

Centers for Disease Control and Prevention

[60-Day-13-0666]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Kimberly S. Lane, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Healthcare Safety Network (NHSN) (OMB No. 0920-0666), exp. 12/31/2015—Revision—National Center for Emerging and Zoonotic Infectious Diseases (NCEZID), Centers for Disease Control and Prevention (CDC).

Background and Brief Description

The National Healthcare Safety Network (NHSN) is a system designed to accumulate, exchange, and integrate relevant information and resources among private and public stakeholders to support local and national efforts to protect patients and promote healthcare safety. Specifically, the data is used to determine the magnitude of various healthcare-associated adverse events and trends in the rates of these events among patients and healthcare workers with similar risks. The data will be used to detect changes in the epidemiology of adverse events resulting from new and current medical therapies and changing risks. The NHSN consists of six components: Patient Safety, Healthcare Personnel Safety, Biovigilance, Long-Term Care Facility (LTCF), Dialysis, and Outpatient Procedure.

The new Dialysis Component was developed in order to separate reporting of dialysis events from the Patient Safety Component. The new component will tailor the NHSN user interface for dialysis users to simplify their data entry and analyses processes as well as provide options for expanding the Dialysis Component in the future to include dialysis surveillance in settings other than outpatient facilities.

The new Outpatient Procedure Component was developed to gather data on the impact of infections and other outcomes related to outpatient procedures that are performed in settings such as Ambulatory Surgery Centers (ASCs), Hospital Outpatient Departments (HOPDs), and physicians' offices. Three event types will be monitored in this new component: Same Day Outcome Measures, Prophylactic Intravenous (IV) Antibiotic Timing, and Surgical Site Infections (SSI).

This revision submission includes two new NHSN components and their corresponding forms. The Dialysis Component consists of changes to three previously approved forms and the addition of four new forms. These new forms include component specific monthly reporting plan, prevention process measures monthly monitoring, patient influenza vaccination, and patient influenza vaccination denominator forms. The Outpatient Procedure Component consists of four new forms: component specific annual survey, monthly reporting plan, event, and monthly denominators and summary forms.

Further, the breadth of organism susceptibility data required on all of the healthcare-associated infection (HAI) report forms (i.e., BSI, UTI, SSI, PNEU (VAP and VAE), DE, LTUTI, and MDRO Infection Surveillance) has been reduced for the purposes of streamlining, simplification, and removing undue burden where possible. Significant changes were made to the NHSN Biovigilance Component forms as a result of a subject matter expert and stakeholder working groups. This includes the removal of the monthly incident summary form. A brand new form was added (Form 57.600—State Health Department Validation Record) to collect aggregate validation results that will be gathered by state health departments when conducting facility-level validation of NHSN healthcare-associated infection (HAI) data within their jurisdictions using the CDC/NHSN Validation Guidance and Toolkits.

Additionally, minor revisions have been made to 17 other forms within the package to clarify and/or update surveillance definitions.

The previously approved NSHN package included 48 individual collection forms; the current revision request adds nine new forms and removes one form for a total of 56 forms. The reporting burden will increase by 542,123 hours, for a total of 4,104,776 hours.

Estimated Annualized Burden Hours
Type of respondents | Form number and name | Number of respondents | Number of responses per respondent | Average burden per response (in hrs.) | Total burden (in hrs.)
Registered Nurse (Infection Preventionist) | 57.100: NHSN Registration Form | 2,000 | 1 | 5/60 | 167
Registered Nurse (Infection Preventionist) | 57.101: Facility Contact Information | 2,000 | 1 | 10/60 | 333
Registered Nurse (Infection Preventionist) | 57.103: Patient Safety Component—Annual Hospital Survey | 6,000 | 1 | 30/60 | 3,000
Registered Nurse (Infection Preventionist) | 57.105: Group Contact Information | 6,000 | 1 | 5/60 | 500
Registered Nurse (Infection Preventionist) | 57.106: Patient Safety Monthly Reporting Plan | 6,000 | 12 | 35/60 | 42,000
Registered Nurse (Infection Preventionist) | 57.108: Primary Bloodstream Infection (BSI) | 6,000 | 36 | 32/60 | 115,200
Registered Nurse (Infection Preventionist) | 57.111: Pneumonia (PNEU) | 6,000 | 72 | 29/60 | 208,800
Registered Nurse (Infection Preventionist) | 57.112: Ventilator-Associated Event | 6,000 | 144 | 22/60 | 316,800
Infection Preventionist | 57.114: Urinary Tract Infection (UTI) | 6,000 | 27 | 29/60 | 78,300
Staff RN | 57.116: Denominators for Neonatal Intensive Care Unit (NICU) | 6,000 | 9 | 3 | 162,000
Staff RN | 57.117: Denominators for Specialty Care Area (SCA)/Oncology (ONC) | 6,000 | 9 | 5 | 270,000
Staff RN | 57.118: Denominators for Intensive Care Unit (ICU)/Other locations (not NICU or SCA) | 6,000 | 54 | 5 | 1,620,000
Registered Nurse (Infection Preventionist) | 57.120: Surgical Site Infection (SSI) | 6,000 | 36 | 29/60 | 104,400
Staff RN | 57.121: Denominator for Procedure | 6,000 | 540 | 5/60 | 270,000
Laboratory Technician | 57.123: Antimicrobial Use and Resistance (AUR)-Microbiology Data Electronic Upload Specification Tables | 6,000 | 12 | 5/60 | 6,000
Pharmacy Technician | 57.124: Antimicrobial Use and Resistance (AUR)-Pharmacy Data Electronic Upload Specification Tables | 6,000 | 12 | 5/60 | 6,000
Registered Nurse (Infection Preventionist) | 57.125: Central Line Insertion Practices Adherence Monitoring | 1,000 | 100 | 5/60 | 8,333
Registered Nurse (Infection Preventionist) | 57.126: MDRO or CDI Infection Form | 6,000 | 72 | 29/60 | 208,800
Registered Nurse (Infection Preventionist) | 57.127: MDRO and CDI Prevention Process and Outcome Measures Monthly Monitoring | 6,000 | 24 | 12/60 | 28,800
Registered Nurse (Infection Preventionist) | 57.128: Laboratory-identified MDRO or CDI Event | 6,000 | 240 | 15/60 | 360,000
Registered Nurse (Infection Preventionist) | 57.130: Vaccination Monthly Monitoring Form-Summary Method | 100 | 5 | 14 | 7,000
Registered Nurse (Infection Preventionist) | 57.131: Vaccination Monthly Monitoring Form-Patient-Level Method | 100 | 5 | 2 | 1,000
Registered Nurse (Infection Preventionist) | 57.133: Patient Vaccination | 100 | 250 | 10/60 | 4,167
Registered Nurse (Infection Preventionist) | 57.137: Long-Term Care Facility Component—Annual Facility Survey | 250 | 1 | 45/60 | 188
Registered Nurse (Infection Preventionist) | 57.138: Laboratory-identified MDRO or CDI Event for LTCF | 250 | 8 | 15/60 | 500
Registered Nurse (Infection Preventionist) | 57.139: MDRO and CDI Prevention Process Measures Monthly Monitoring for LTCF | 250 | 12 | 5/60 | 250
Registered Nurse (Infection Preventionist) | 57.140: Urinary Tract Infection (UTI) for LTCF | 250 | 9 | 27/60 | 1,013
Registered Nurse (Infection Preventionist) | 57.141: Monthly Reporting Plan for LTCF | 250 | 12 | 5/60 | 250
Registered Nurse (Infection Preventionist) | 57.142: Denominators for LTCF Locations | 250 | 12 | 3 | 9,000
Registered Nurse (Infection Preventionist) | 57.143: Prevention Process Measures Monthly Monitoring for LTCF | 250 | 12 | 5/60 | 250
Registered Nurse (Infection Preventionist) | 57.150: LTAC Annual Survey | 400 | 1 | 30/60 | 200
Registered Nurse (Infection Preventionist) | 57.151: Rehab Annual Survey | 1,000 | 1 | 25/60 | 417
Occupational Health RN/Specialist | 57.200: Healthcare Personnel Safety Component Annual Facility Survey | 50 | 1 | 8 | 400
Occupational Health RN/Specialist | 57.203: Healthcare Personnel Safety Monthly Reporting Plan | 50 | 9 | 10/60 | 75
Occupational Health RN/Specialist | 57.204: Healthcare Worker Demographic Data | 50 | 200 | 20/60 | 3,333
Occupational Health RN/Specialist | 57.205: Exposure to Blood/Body Fluids | 50 | 50 | 1 | 2,500
Occupational Health RN/Specialist | 57.206: Healthcare Worker Prophylaxis/Treatment | 50 | 30 | 15/60 | 375
Laboratory Technician | 57.207: Follow-Up Laboratory Testing | 50 | 50 | 15/60 | 625
Occupational Health RN/Specialist | 57.210: Healthcare Worker Prophylaxis/Treatment-Influenza | 50 | 50 | 10/60 | 417
Medical/Clinical Laboratory Technologist | 57.300: Hemovigilance Module Annual Survey | 500 | 1 | 2 | 1,000
Medical/Clinical Laboratory Technologist | 57.301: Hemovigilance Module Monthly Reporting Plan | 500 | 12 | 1/60 | 100
Medical/Clinical Laboratory Technologist | 57.303: Hemovigilance Module Monthly Reporting Denominators | 500 | 12 | 1 | 6,000
Medical/Clinical Laboratory Technologist | 57.304: Hemovigilance Adverse Reaction | 500 | 48 | 15/60 | 6,000
Medical/Clinical Laboratory Technologist | 57.305: Hemovigilance Incident | 500 | 12 | 10/60 | 1,000
Staff RN | 57.400: Outpatient Procedure Component—Annual Facility Survey | 5,000 | 1 | 5/60 | 417
Staff RN | 57.401: Outpatient Procedure Component—Monthly Reporting Plan | 5,000 | 12 | 15/60 | 15,000
Staff RN | 57.402: Outpatient Procedure Component Event | 5,000 | 25 | 40/60 | 83,333
Staff RN | 57.403: Outpatient Procedure Component—Monthly Denominators and Summary | 5,000 | 12 | 40/60 | 40,000
Registered Nurse (Infection Preventionist) | 57.500: Outpatient Dialysis Center Practices Survey | 6,000 | 1 | 1.75 | 10,500
Staff RN | 57.501: Dialysis Monthly Reporting Plan | 6,000 | 12 | 5/60 | 6,000
Staff RN | 57.502: Dialysis Event | 6,000 | 60 | 13/60 | 78,000
Staff RN | 57.503: Denominator for Outpatient Dialysis | 6,000 | 12 | 6/60 | 7,200
Staff RN | 57.504: Prevention Process Measures Monthly Monitoring for Dialysis | 600 | 12 | 30/60 | 3,600
Staff RN | 57.505: Dialysis Patient Influenza Vaccination | 250 | 75 | 10/60 | 3,125
Staff RN | 57.506: Dialysis Patient Influenza Vaccination Denominator | 250 | 5 | 10/60 | 208
Epidemiologist | 57.600: State Health Department Validation Record | 152 | 50 | 15/60 | 1,900
Total |  |  |  |  | 4,104,776

Ron A. Otten,
Director, Office of Scientific Integrity, Office of the Associate Director for Science, Office of the Director.

[FR Doc. 2013-14752 Filed 6-19-13; 8:45 am]

BILLING CODE 4163-18-P